DEPARTMENT OF TRANSPORTATION

Federal Aviation Administration

14 CFR Part 39

[Docket No. FAA-2017-0910; Product Identifier 2017-CE-027-AD]

RIN 2120-AA64

Airworthiness Directives; Gulfstream Aerospace Corporation Airplanes

AGENCY: Federal Aviation Administration (FAA), DOT.

ACTION: Notice of proposed rulemaking (NPRM).

SUMMARY: We propose to adopt a new airworthiness directive (AD) for certain Gulfstream Aerospace Corporation Models GIII (G-1159A), G-IV, and GIV-X airplanes. This proposed AD was prompted by a report that certain flap tracks were manufactured with the upper flange thickness less than design minimum. This proposed AD would require replacing any defective flap track. We are proposing this AD to address the unsafe condition on these products.

DATES: We must receive comments on this proposed AD by November 6, 2017.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this NPRM, contact Gulfstream Aerospace Corporation, P.O. Box 2206, Savannah, Georgia 31404-2206; telephone: (912) 965-3000; fax: (912) 965-3520; email: pubs@gulfstream.com; Internet: www.gulfstream.com. You may review this referenced service information at the FAA, Policy and Innovation Division, 901 Locust, Kansas City, Missouri 64106. For information on the availability of this material at the FAA, call (816) 329-4148.

Examining the AD Docket

You may examine the AD docket on the Internet at http://www.regulations.gov by searching for and locating Docket No. FAA-2017-0910; or in person at the Docket Management Facility between 9 a.m. and 5 p.m., Monday through Friday, except Federal holidays. The AD docket contains this NPRM, the regulatory evaluation, any comments received, and other information. The street address for the Docket Office (phone: 800-647-5527) is in the ADDRESSES section. Comments will be available in the AD docket shortly after receipt.

FOR FURTHER INFORMATION CONTACT: Ron Wissing, Aerospace Engineer, Atlanta ACO Branch, FAA, 1701 Columbia Avenue, College Park, Georgia 30337; phone: (404) 474-5552; fax: (404) 474-5606; email: ronald.wissing@faa.gov.

SUPPLEMENTARY INFORMATION:

Comments Invited

We invite you to send any written relevant data, views, or arguments about this proposal. Send your comments to an address listed under the ADDRESSES section. Include “Docket No. FAA-2017-0910; Product Identifier 2017-CE-027-AD” at the beginning of your comments. We specifically invite comments on the overall regulatory, economic, environmental, and energy aspects of this NPRM. We will consider all comments received by the closing date and may amend this NPRM because of those comments.

We will post all comments we receive, without change, to http://www.regulations.gov, including any personal information you provide. We will also post a report summarizing each substantive verbal contact we receive about this NPRM.

Discussion

We received a report from Gulfstream Aerospace Corporation that, during maintenance while replacing flap tracks on one of the affected airplanes, it was discovered that certain flap tracks were manufactured with the upper flange thickness less than design minimum and do not meet design load margins.

This condition, if not corrected, could result in deformation or failure of a flap track that could result in flap actuator failure, “B track” roller overload, flap twisting/failure, or asymmetrical flap track failure. This failure could result in an unrecoverable roll.

Related Service Information Under 1 CFR Part 51

We reviewed Gulfstream III Customer Bulletin Number 187, Gulfstream G450 Customer Bulletin Number 195, and Gulfstream IV Customer Bulletin Number 240, all dated June 28, 2017. The applicable model service information describes procedures for replacing any discrepant flap track C with an airworthy part. This service information is reasonably available because the interested parties have access to it through their normal course of business or by the means identified in the ADDRESSES section.

FAA's Determination

We are proposing this AD because we evaluated all the relevant information and determined the unsafe condition described previously is likely to exist or develop in other products of the same type design.

Proposed AD Requirements

This proposed AD would require accomplishing the actions specified in the service information described previously.

Costs of Compliance

We estimate that this proposed AD affects 6 airplanes of U.S. registry.

We estimate the following costs to comply with this proposed AD:

Estimated Costs
Action | Labor cost | Parts cost | Cost per product | Cost on U.S. operators
Replace flap track C | 99 work-hours × $85 per hour = $8,415 per flap track C | $10,644 per flap track C | $19,059 per flap track C. There may be a flap track C on the left-side and the right-side of the airplane, for a total of 2 per airplane | $114,354 per flap track C.

According to the manufacturer, some of the costs of this proposed AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to small airplanes and domestic business jet transport airplanes to the Director of the Policy and Innovation Division.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Gulfstream Aerospace Corporation: Docket No. FAA-2017-0910; Product Identifier 2017-CE-027-AD.

(a) Comments Due Date

We must receive comments by November 6, 2017.

(b) Affected ADs

None.

(c) Applicability

This AD applies to Gulfstream Aerospace Corporation Model GIII (G-1159A), serial number (S/N) 460; Model G-IV, S/Ns 1129, 1151, 1167, 1175, 1214, and 1380; and Model GIV-X, S/Ns 4118 and 4227 airplanes.

(d) Subject

Joint Aircraft System Component (JASC)/Air Transport Association (ATA) of America Code 57, Wings.

(e) Unsafe Condition

This AD was prompted by a report that certain flap tracks were manufactured with the upper flange thickness less than design minimum. We are issuing this AD to prevent deformation or failure of a flap track that could cause flap actuator failure, “B track” roller overload, flap twisting/failure, or asymmetrical flap track failure. This failure could result in an unrecoverable roll.

(f) Compliance

Comply with this AD within the compliance times specified, unless already done.

(g) Replace Flap Track C

Within the next 6 months after the effective date of this AD, replace the flap track C on the left side, part number (P/N) 1159WM20052-105, and/or the flap track C on the right side, P/N 1159WM20052-106, with an airworthy part. Do the replacements following Gulfstream III Customer Bulletin Number 187, Gulfstream G450 Customer Bulletin Number 195, or Gulfstream IV Customer Bulletin Number 240, all dated June 28, 2017, as applicable.

(h) Reporting Requirement

Although Gulfstream III Customer Bulletin Number 187, Gulfstream G450 Customer Bulletin Number 195, and Gulfstream IV Customer Bulletin Number 240, all dated June 28, 2017, specify to submit certain information to the manufacturer, this AD does not require that action.

(i) Special Flight Permit

Special flight permits under 14 CFR 39.23 are allowed with the following limitation: Do not extend 39 degrees (FULL) flaps until airspeed is at or below 170 knots.

(j) Alternative Methods of Compliance (AMOCs)

(1) The Manager, Atlanta ACO Branch, FAA, has the authority to approve AMOCs for this AD, if requested using the procedures found in 14 CFR 39.19. In accordance with 14 CFR 39.19, send your request to your principal inspector or local Flight Standards District Office, as appropriate. If sending information directly to the manager of the ACO Branch, send it to the attention of the person identified in paragraph (k) of this AD.

(2) Before using any approved AMOC, notify your appropriate principal inspector, or lacking a principal inspector, the manager of the local flight standards district office/certificate holding district office.

(3) For service information that contains steps that are labeled as Required for Compliance (RC), the provisions of paragraph (g) of this AD apply.

(i) The steps labeled as RC, including substeps under an RC step and any figures identified in an RC step, must be done to comply with the AD. An AMOC is required for any deviations to RC steps, including substeps and identified figures.

(ii) Steps not labeled as RC may be deviated from using accepted methods in accordance with the operator's maintenance or inspection program without obtaining approval of an AMOC, provided the RC steps, including substeps and identified figures, can still be done as specified, and the airplane can be put back in an airworthy condition.

(k) Related Information

(1) For more information about this AD, contact Ron Wissing, Aerospace Engineer, Atlanta ACO Branch, FAA, 1701 Columbia Avenue, College Park, Georgia 30337; phone: (404) 474-5552; fax: (404) 474-5606; email: ronald.wissing@faa.gov.

(2) For service information identified in this AD, contact Gulfstream Aerospace Corporation, P.O. Box 2206, Savannah, Georgia 31404-2206; telephone: (912) 965-3000; fax: (912) 965-3520; email: pubs@gulfstream.com; Internet: www.gulfstream.com. FAA, Policy and Innovation Division, 901 Locust, Kansas City, Missouri 64106. For information on the availability of this material at the FAA, call (816) 329-4148.

Issued in Kansas City, Missouri, on September 14, 2017.
Pat Mullen,
Acting Deputy Director, Policy & Innovation Division, Aircraft Certification Service.

[FR Doc. 2017-20051 Filed 9-21-17; 8:45 am]

BILLING CODE 4910-13-P